DEPARTMENT OF THE INTERIOR

National Park Service

[NPS-WASO-NRNHL-DTS#-30774; PPWOCRADI0, PCU00RP14.R50000]

National Register of Historic Places; Notification of Pending Nominations and Related Actions

AGENCY: National Park Service, Interior.

ACTION: Notice.

SUMMARY: The National Park Service is soliciting electronic comments on the significance of properties nominated before August 15, 2020, for listing or related actions in the National Register of Historic Places.

DATES: Comments should be submitted electronically by September 16, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before August 15, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

IOWA

Polk County

Argonne Building, 1723 Grand Ave. (1723-1733 Grand Ave., plus 515 18th St.), Des Moines, SG100005608

MISSISSIPPI

Hinds County

Admiral Benbow Inn, 905 North State St., Jackson, SG100005613

Rankin County

Piney Woods Country Life School Historic District, 5009 US 49 South, Piney Woods, SG100005616

MONTANA

Park County

Billy Miles & Bros. Grain Elevator, Jct. of East Park St. (US 89 Bus.) and North G St., Livingston, SG100005604

SOUTH CAROLINA

Charleston County

Host of America Motel, 3245 Rivers Ave., North Charleston, SG100005609

Richland County

Stone Manufacturing Company, 3452 North Main St., Columbia, SG100005610

Veterans Administration Regional Office, 1801 Assembly St., Columbia, SG100005611

Williamsburg County

Epps-McGill Farmhouse, 679 Eastland Ave., Kingstree vicinity, SG100005612

TEXAS

Red River County

Bogata Historic District, Main St., roughly between Mount Pleasant Rd. and 2nd St., Bogata, SG100005602

Tarrant County

Riverside Baptist Church, 3111 Race St., Fort Worth, SG100005603

Wheeler County

Route 66 in Wheeler County, Texas, (Route 66 in Texas MPS), South side frontage road of I 40 between Gray Co. (TX) and Beckham Co. (OK), Shamrock vicinity, MP100005601

VERMONT

Windsor County

Woodstock Village Historic District (Boundary Increase), Roughly along the Ottauquechee R., Woodstock, BC100005615

A request to move has been received for the following resource:

CONNECTICUT

New Haven County

Pinto, William, House, 275 Orange St., New Haven, MV85002316

Additional documentation has been received for the following resources:

ARKANSAS

Pulaski County

Lake Nixon (Additional Documentation), 18500 Cooper Orbit Rd., Little Rock, AD100001013

VERMONT

Windsor County

Woodstock Village Historic District (Additional Documentation), Along the Ottauquechee R., Woodstock, AD73000274

Authority: Section 60.13 of 36 CFR part 60

Dated: August 18, 2020.
Sherry A. Frear,
Chief, National Register of Historic Places/National Historic Landmarks Program.

[FR Doc. 2020-19221 Filed 8-31-20; 8:45 am]

BILLING CODE 4312-52-P